ENVIRONMENTAL PROTECTION AGENCY

[EPA-HQ-OGC-2021-0676; FRL-9106-01-OGC]

External Civil Rights Compliance Office-Stakeholder Engagement Meeting—October

AGENCY: Environmental Protection Agency (EPA).

ACTION: Notice of public meeting.

SUMMARY: The Environmental Protection Agency (EPA), External Civil Rights Compliance Office (ECRCO), gives notice of a virtual meeting with external stakeholders regarding EPA's external civil rights compliance program. We would like to have input and hear recommendations about priorities for civil rights enforcement by EPA, including input for focusing civil rights compliance reviews.

DATES: The meeting will be held on Wednesday, October 27, 2021, from 4 p.m. to 6 p.m. (EDT). Attendees must register by October 25, 2021. Meeting times are subject to change. This meeting is open to the public. EPA invites individuals wishing to make comments (up to 20 individuals, comments no longer than three (3) minutes in length) during the meeting, to request to do so at our Registration Page, no later than Friday, October 22, 2021. Written comments may be submitted by going to: https://www.epa.gov/ogc/forms/ecrco-stakeholder-meeting-information. EPA also invites individuals to submit any questions in writing in advance of the meeting by going to: https://www.epa.gov/ogc/forms/ecrco-stakeholder-meeting-information.

ADDRESSES: Instructions on how to connect to the videoconference will be provided upon Registration at https://www.eventbrite.com/e/ecrco-external-engagement-meeting-tickets-178205606767.

FOR FURTHER INFORMATION CONTACT: Brittany Robinson, ECRCO at robinson.brittany@epa.gov, 202-564-0727; or Waleska Nieves-Muñoz at nieves-munoz.waleska@epa.gov, 202-564-7103.

SUPPLEMENTARY INFORMATION: EPA's External Civil Rights Compliance Office (ECRCO) enforces several federal civil rights laws that together prohibit discrimination on the bases of race, color, national origin, disability, sex, and age, in programs or activities that apply for or receive financial assistance from EPA. All applicants for and recipients of EPA financial assistance, including state and local governments as well as private entities, have an affirmative obligation to comply with federal civil rights laws, both as a prerequisite to obtaining EPA financial assistance and in administering their programs and activities. EPA enforcement of these anti-discrimination provisions is a vital tool in the Agency's efforts to advance equity and environmental justice. EPA's enforcement and compliance activities include complaint investigations, affirmative compliance reviews, pre-award review of applications for EPA funding, and issuance of policy guidance. The meeting agenda and materials will be posted to https://www.epa.gov/ogc/forms/ecrco-stakeholder-meeting-information. Proposed agenda items for the meeting include, but are not limited to, a brief overview of EPA's commitment to strengthening Title VI enforcement, stakeholder comments, questions, and recommendations regarding priorities for EPA's external civil rights enforcement and compliance activities.

Information on Services Available: Please indicate during registration if you are a person with a disability needing a reasonable accommodation or a person with limited English proficiency needing language assistance services, in order to meaningfully participate in this meeting. For additional information on disability services or language services, please contact Brittany Robinson, ECRCO, at robinson.brittany@epa.gov, 202-564-0727; or Waleska Nieves-Muñoz, ECRCO, at nieves-munoz.waleska@epa.gov, 202-564-7103. Please submit your request for a reasonable accommodation for a disability as soon as possible prior to the meeting to give the EPA adequate time to process your request.

This meeting will be recorded.

Authority: Pub. L. 92-463, 1, Oct. 6, 1972, 86 Stat. 770.

Dated: October 4, 2021.
Lilian S. Dorka,
Director, External Civil Rights Compliance Office.

[FR Doc. 2021-22728 Filed 10-18-21; 8:45 am]

BILLING CODE 6560-50-P